Title 3—

The President

Executive Order 14315 of July 7, 2025

Ending Market Distorting Subsidies for Unreliable, Foreign-Controlled Energy Sources

By the authority vested in me as President by the Constitution and the laws of the United States of America, it is hereby ordered:

Section 1. Purpose. For too long, the Federal Government has forced American taxpayers to subsidize expensive and unreliable energy sources like wind and solar. The proliferation of these projects displaces affordable, reliable, dispatchable domestic energy sources, compromises our electric grid, and denigrates the beauty of our Nation's natural landscape. Moreover, reliance on so-called “green” subsidies threatens national security by making the United States dependent on supply chains controlled by foreign adversaries. Ending the massive cost of taxpayer handouts to unreliable energy sources is vital to energy dominance, national security, economic growth, and the fiscal health of the Nation.

Sec. 2. Policy. It is the policy of the United States to:

(a) rapidly eliminate the market distortions and costs imposed on taxpayers by so-called “green” energy subsidies;

(b) build upon and strengthen the repeal of, and modifications to, wind, solar, and other “green” energy tax credits in the One Big Beautiful Bill Act; and

(c) end taxpayer support for unaffordable and unreliable “green” energy sources and supply chains built in, and controlled by, foreign adversaries.

Sec. 3. Tax Credits and One Big Beautiful Bill Act Implementation by the Department of the Treasury. (a) Within 45 days following enactment of the One Big Beautiful Bill Act, the Secretary of the Treasury shall take all action as the Secretary of the Treasury deems necessary and appropriate to strictly enforce the termination of the clean electricity production and investment tax credits under sections 45Y and 48E of the Internal Revenue Code for wind and solar facilities. This includes issuing new and revised guidance as the Secretary of the Treasury deems appropriate and consistent with applicable law to ensure that policies concerning the “beginning of construction” are not circumvented, including by preventing the artificial acceleration or manipulation of eligibility and by restricting the use of broad safe harbors unless a substantial portion of a subject facility has been built.

(b) Within 45 days following enactment of the One Big Beautiful Bill Act, the Secretary of the Treasury shall take prompt action as the Secretary of the Treasury deems appropriate and consistent with applicable law to implement the enhanced Foreign Entity of Concern restrictions in the One Big Beautiful Bill Act.

Sec. 4. One Big Beautiful Bill Act Implementation by the Department of the Interior. (a) Within 45 days following enactment of the One Big Beautiful Bill Act, the Secretary of the Interior shall conduct a review of regulations, guidance, policies, and practices under the Department of the Interior's jurisdiction to determine whether any provide preferential treatment to wind and solar facilities in comparison to dispatchable energy sources. The Secretary of the Interior shall then revise any identified regulations, guidance, policies, and practices as appropriate and consistent with applicable law to eliminate any such preferences for wind and solar facilities.

Sec. 5. Reports. Within 45 days of the date of this order, the Secretary of the Treasury and the Secretary of the Interior shall submit a report to the President, through the Assistant to the President for Economic Policy, the findings made under, and actions taken and planned to be taken to implement, this order.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of the Treasury.

THE WHITE HOUSE,

July 7, 2025.

[FR Doc. 2025-12961

Filed 7-9-25; 11:15 am]

Billing code 4810-25-P